DEPARTMENT OF COMMERCE

International Trade Administration

[A-533-810]

Stainless Steel Bar From India: Amended Final Results of Antidumping Duty Administrative Review; 2018-2019

AGENCY: Enforcement and Compliance, International Trade Administration, Department of Commerce.

SUMMARY: The Department of Commerce (Commerce) is amending the final results of the administrative review of the antidumping duty (AD) order on stainless steel bar (SS Bar) from India to correct a ministerial error.

DATES: Applicable December 30, 2020.

FOR FURTHER INFORMATION CONTACT: Hermes Pinilla or Allison Hollander, AD/CVD Operations, Office I, Enforcement and Compliance, International Trade Administration, U.S. Department of Commerce, 1401 Constitution Avenue NW, Washington DC 20230; telephone: (202) 482-3477 or (202) 482-2805, respectively.

SUPPLEMENTARY INFORMATION:

Background

On November 24, 2020, Commerce published its Final Results of this administrative review.¹ On November 30, 2020, Venus Wire Industries Pvt. Ltd., and its affiliates Hindustan Inox, Precision Metals, and Sieves Manufacturers (India) Pvt. Ltd. (collectively, the Venus Group), one of the mandatory respondents in this administrative review, timely submitted ministerial error comments regarding Commerce's Final Results.² On December 1, 2020, the petitioners filed comments rebutting the Venus Group's assertion that Commerce committed a ministerial error.³ Commerce is amending its Final Results to correct the ministerial error raised by the Venus Group.

¹ See Stainless Steel Bar from India: Final Results of Antidumping Duty Administrative Review Final Results of Antidumping Duty Administrative Review; 2018-2019, 85 FR 74985 (November 24, 2020) (Final Results), and accompanying Issues and Decision Memorandum (IDM).

² See Venus Group's Letter, “Stainless Steel Bar from India: Clerical Error Comment on Final Results of Administrative Review,” dated November 30, 2020.

³ See Petitioners' Letter, “Stainless Steel Bar from India—Petitioners' Response To Venus Group's Clerical Error Comments Regarding Final Results of Administrative Review,” dated December 1, 2020. The petitioners are Carpenter Technology Corporation; Crucible Industries LLC; Electralloy, A Division of G.O. Carlson, Inc., North American Stainless, Universal Stainless & Alloy Products, Inc.; and Valbruna Slater Stainless, Inc. (collectively, the petitioners)

Legal Framework

A ministerial error, as defined in section 751(h) of the Tariff Act of 1930, as amended (the Act), includes “errors in addition, subtraction, or other arithmetic function, clerical errors resulting from inaccurate copying, duplication, or the like, and any other type of unintentional error which the administering authority considers ministerial.” ⁴ With respect to final results of administrative reviews, 19 CFR 351.224(e) provides that Commerce “will analyze any comments received and if appropriate, correct any ministerial error by amending . . .the final results of review. . . .”

⁴ See 19 CFR 351.224(f).

Ministerial Error

In the Final Results, Commerce indicated that it was adjusting the Venus Group's direct material cost or DIRMAT to take into account whether the producer is the Venus Group or its unaffiliated suppliers.⁵ We stated that we adjusted the Venus Group's direct material cost or DIRMAT where the producer is identified as the Venus Group.⁶ However, in the Final Results, we incorrectly adjusted the Venus Group's direct material cost or DIRMAT regardless of whether the producer was identified as the Venus Group or one of its unaffiliated suppliers. Accordingly, Commerce determines that, in accordance with section 751(h) of the Act and 19 CFR 351.224(f), it made a ministerial error in the Final Results. Pursuant to 19 CFR 351.224(e), Commerce is amending the Final Results to reflect the correction of this ministerial error in the calculation of the final weighted-average dumping margin assigned to the Venus Group, which changes from 17.24 percent to 16.48 percent.⁷ For a detailed discussion of this ministerial error, as well as Commerce's analysis, see Amended Final Analysis Memorandum.⁸

⁵ See IDM at Comment 4.

⁶ Id.; see also Memorandum, “Administrative Review of the Antidumping Duty Order on Stainless Steel Bar from India: Final Analysis Memorandum for the Venus Group,” dated November 18, 2020.

⁷ See Memorandum, “Ministerial Error Memorandum for the Final Results of the 2018-2019 Administerial Review of the Antidumping Duty Stainless Steel Bar from India,” dated concurrently with, and hereby adopted by, this notice; see also Memorandum, “Administrative Review of the Antidumping Duty Order on Stainless Steel Bar from India: Amended Final Analysis Memorandum for the Venus Group,” dated concurrently with this notice (Amended Final Analysis).

⁸ Id.

Amended Final Results of Review

As a result of correcting the ministerial error described above, Commerce determines that, for the period of review (POR) February 1, 2018 through January 31, 2019, the following weighted-average dumping margin exists for the Venus Group:

Producer/exporter | Weighted- average dumping margin (percent)
Venus Wire Industries Pvt. Ltd., and its affiliates Hindustan Inox, Precision Metals and Sieves Manufacturers (India) Pvt. Ltd | 16.48

Disclosure

We intend to disclose the calculations performed for these amended final results in accordance with 19 CFR 351.224(b).

Antidumping Duty Assessment

Pursuant to section 751(a)(2)(C) of the Act and 19 CFR 351.212(b)(1), Commerce shall determine and U.S. Customs and Border Protections (CBP) shall assess, antidumping duties on all appropriate entries of subject merchandise in accordance with the amended final results of this review. We will calculate importer-specific assessment rate on the basis of the total amount of antidumping duties calculated for each importer's examined sales and the total entered values of the sales in accordance with 19 CFR 351.212.(b)(1).

We intend to issue liquidation instructions to CBP 15 days after publication of the amended final results of this review.

Cash Deposit Requirements

The following cash deposit requirements will be effective retroactively for all shipments of subject merchandise that entered, or withdrawn from warehouse, for consumption on or after November 24, 2020, the date of publication of the Final Results of this administrative review, as provided for by section 751(a)(2)(C) of the Act: (1) The cash deposit rate for the Venus Group will be equal to the weighted-average dumping margin established in these amended final results of this review; (2) for previously reviewed or investigated companies, the cash deposit rate will continue to be the company-specific rate published for the most recently completed segment of this proceeding; (3) if the exporter is not a firm covered in this review, a prior review, or the original investigation but the producer is, the cash deposit rate will be the rate established for the most recent period for the producer of the merchandise; and (4) the cash deposit rate for all other producers or exporters will continue to be 12.45 percent, the all-others rate established in the less-than-fair-value investigation.⁹ These cash deposit requirements, when imposed, shall remain in effect until further notice.

⁹ See Notice of Final Determination of Sales at Less Than Fair Value: Stainless Steel Bar from India, 59 FR 66915, 66921 (December 28, 1994).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice serves as a reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

Notification to Interested Parties

We are issuing and publishing these amended final results of review in accordance with sections 751(h) and 777(i) of the Act and 19 CFR 351.224(e).

Dated: December 22, 2020.
Jeffrey I. Kessler,
Assistant Secretary for Enforcement and Compliance.

[FR Doc. 2020-28829 Filed 12-29-20; 8:45 am]

BILLING CODE 3510-DS-P